FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

ATS International Services, Inc. (NVO & OFF), 725 Opportunity Drive, St. Cloud, MN 56302, Officers: Rollis Anderson, President/CEO (Qualifying Individual), Joseph M. Goering, Vice President, Application Type: Add OFF Service.

Bahaghari Holdings, Inc. dba DL Lawin Cargo dba, Bahaghari Express Cargo (NVO), 761 Highland Place, San Dimas, CA 91773, Officer: Leandro R. Dinglasan, President/Secretary/CFO (Qualifying Individual), Application Type: License Transfer.

CBM Global Freight Corporation (NVO), 223 South Van Brunt Street, Suite 200, Englewood, NJ 07631, Officer: Seung (Brian) H. Hur, Vice President/Secretary (Qualifying Individual), Claudio Vazquez, President/Treasurer, Application Type: New NVO License.

Charity Cargo, LLC (NVO), 1423 Kaleilani Street, Pearl City, HI 96782. Officers: Jessie Luga, Member (Qualifying Individual), Estiven Ganal, Member, Application Type: New NVO License.

Four Points Ocean Inc. (NVO & OFF), 1460 Route 9 North, Suite 303, Woodbridge, NJ 07095, Officers: Joseph P. Felitto, President/Director/Treasurer (Qualifying Individual), Raymond Boudart, Vice President, Application Type: Add OFF Service.

Global Way International, Inc. (NVO), 17756 Palo Verde Avenue, Cerritos, CA 90703, Officer: James Wang, CFO/CEO/Secretary (Qualifying Individual), Application Type: New NVO License.

HD Intercargo, Inc. (NVO), 820 SW 17 Avenue, Miami, FL 33135, Officers: Karen I. Duarte, Secretary (Qualifying Individual), Herbeth F. Duarte, President, Application Type: New NVO License.

IFLN, LLC dba IFLN Shipping Line (NVO & OFF), 700 Rockmead Drive, #214, Kingwood, TX 77339, Officers: Michel VanLerberghe, President/Member (Qualifying Individual), Rocio Hidrobo, Vice President/Sec/Treas/Member, Application Type: License Transfer/Add NVO Service/QI Chg.

Interfreight Logistics Co., Ltd. (NVO & OFF), 22A Sunshine Island Bldg., Dongmen Nan Road, ShenZhen, GuangDong Province, China 518002, Officers: DeFang Kong, Secretary (Qualifying Individual), HuaRong Liu, President, Application Type: New NVO & OFF License.

Ironbound Global Logistics Limited Liability Company (NVO), 384 Market Street, Suite B, Newark, NJ 07105, Officers: Raymundo J. Barbaran, Member/Manager/COO (Qualifying Individual), Blanca Salas, Member/Manager/Secretary/CEO, Application Type: New NVO License.

Kuwait Shipping and Packaging Corporation (OFF), 3353 Third Avenue, Bronx, NY 10456, Officers: Daniel O. Adjei, President (Qualifying Individual), Rose Adjei, Secretary/Treasurer, Application Type: New OFF License.

Legend International Transport, LLC dba Prime Time Movers (NVO), 3310 Mandeville Canyon Road, Los Angeles, CA 90049, Officers: Jacqueline Benabe, CFO (Qualifying Individual), Daniel Lerner, Manager, Application Type: New NVO License.

Malvar Freight Forwarding, LLC (NVO & OFF), 4141 NW. 36th Avenue, Miami, FL 33142, Officer: Alberto Diaz Rodriguez, Manager (Qualifying Individual), Application Type: License Transfer.

Missouri Sea and Air Services, Inc. (NVO & OFF), 500 Meijer Drive, #107, Florence, KY 41042, Officers: George S. Jernigan, Assistant Secretary (Qualifying Individual), Margaret Sears, President, Application Type: New NVO & OFF License.

Mohawk Customs & Shipping Corp. dba Mohawk Global Logistics (NVO & OFF), 152 Air Cargo Road, Suite 303, North Syracuse, NY 13212, Officers: Garard D. Grannell, President/CEO (Qualifying Individual), Michael Kuhn, Vice President, Sales & Marketing, Application Type: QI Change.

Outer Seaways, Inc. (NVO), 1315 Walnut Street, #1708A, Philadelphia, PA 19107, Officers: Richard Schultz, Vice President (Qualifying Individual), John J. O'Donnell, President, Application Type: New NVO License.

Raices Express Inc. (NVO & OFF), 1400 NW. 48th Place, Deerfield Beach, FL 33064, Officers: Rafael I. Santos, President/Secretary/Director (Qualifying Individual), Idelsa A. Santos, Vice President/Treasurer, Application Type: New NVO & OFF License.

Texas International Freight, LLC (OFF), 10142 Hanka Drive, Houston, TX 77043, Officer: Michael A. Dyll, President/CEO (Qualifying Individual), Application Type: New OFF License.

Trans Wagon Int'l (USA) Co., Ltd. (NVO & OFF), 20265 Valley Blvd., Suite B, Walnut, CA 91789, Officers: Nancy Y. Shen, Vice President, Chin-Tien Su, President/CEO/Secretary/CFO (Qualifying Individuals), Application Type: Add NVO Service.

WTO Express (U.S.A.) Corp. (NVO & OFF), 20265 Valley Blvd., Suite B, Walnut, CA 91789, Officers: Nancy Y. Shen, Vice President, Chin-Tien Su, President/CEO/Secretary/CFO Qualifying Individuals), Application Type: Add NVO Service.

UIA Worldwide Logistics, Inc. (NVO), 265 E. Redondo Beach Blvd., Gardena, CA 90248. Officers: Alvin Lin, President/CEO/Director (Qualifying Individual), Doris M. Ling, Director/Secretary/Treasurer/CFO, Application Type: QI Change.

UniGlobal Logistics LLC (NVO), 39 Old Ridgebury Road, Danbury, CT 06810. Officers: Robert H. Shellman, CEO (Qualifying Individual), Douglas I. Clark, President, Application Type: New NVO License.

Dated: January 31, 2011.
Karen V. Gregory,
Secretary.

[FR Doc. 2011-2392 Filed 2-2-11; 8:45 am]

BILLING CODE 6730-01-P